DEPARTMENT OF THE INTERIOR

Bureau of Land Management

[UT-910-07-1150-PH-24-1A]

Cancellation of Utah Resource Advisory Council Meeting

AGENCY: Bureau of Land Management, Department of the Interior.

ACTION: Cancellation of Utah Resource Advisory Council (RAC) Meeting.

DATES: September 14, 2007, 9 a.m.-5 p.m.

ADDRESSES: Holiday Inn, 838 Westwood Blvd., Price, Utah.

FOR FURTHER INFORMATION: Contact Sherry Foot, Special Programs Coordinator, Utah State Office, Bureau of Land Management, P.O. Box 45155, Salt Lake City, Utah 84145-0155; phone (801) 539-4195.

SUPPLEMENTARY INFORMATION: Five fee proposal business plans (focus of meeting) were to be presented to the RAC. They will not be ready for presentation by the proposed September 14 meeting date. Therefore, the meeting is being cancelled.

Dated: August 27, 2007.
Selma Sierra,
State Director.

[FR Doc. E7-17300 Filed 8-30-07; 8:45 am]

BILLING CODE 4310-$$-P